DEPARTMENT OF HEALTH AND HUMAN SERVICES

National Institutes of Health

Center for Scientific Review Amended; Notice of Meeting

Notice is hereby given of a change in the meeting of the Center for Scientific Review Special Emphasis Panel, February 17, 2014, 09:00 a.m. to February 17, 2014, 05:00 p.m., National Institutes of Health, 6701 Rockledge Drive, Bethesda, MD, 20892 which was published in the Federal Register on January 30, 2014, 79 FR 4936.

The meeting will be held on March 17, 2014, starting at 11:00 a.m. and ending at 05:00 p.m. The meeting location remains the same. The meeting is closed to the public.

Dated: February 19, 2014.
Michelle Trout,
Program Analyst, Office of Federal Advisory Committee Policy.

[FR Doc. 2014-03934 Filed 2-24-14; 8:45 am]

BILLING CODE 4140-01-P